DEPARTMENT OF EDUCATION

National Assessment Governing Board Quarterly Board Meeting

AGENCY: National Assessment Governing Board, U.S. Department of Education.

ACTION: Announcement of open and closed meetings.

SUMMARY: This notice sets forth the agenda for the May 18-20, 2017 Quarterly Board Meeting of the National Assessment Governing Board (hereafter referred to as Governing Board). This notice provides information to members of the public who may be interested in attending the meeting or providing written comments on the meeting. Due to unavoidable delays during the Administration transition, this notice is being posted less than 15 days prior to the Board meeting date.

DATES: The Quarterly Board Meeting will be held on the following dates:

• May 18, 2017 from 12:30 p.m. to 5:30 p.m.

• May 19, 2017 from 8:30 a.m. to 4:45 p.m.

• May 20, 2017 from 7:30 a.m. to 11:45 a.m.

ADDRESSES: The Commons Hotel, 615 Washington Avenue SE., Minneapolis, MN 55414

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION: Statutory Authority and Function: The Governing Board is established under the National Assessment of Educational Progress Authorization Act, Title III of Pub. L. 107-279. Information on the Governing Board (hereafter Governing Board) and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

May 18-20, 2017 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: May 18-20, 2017

May 18: Committee Meetings

Assessment Development Committee (ADC): Closed Session: 12:30 p.m. to 3:30 p.m.;

Executive Committee: Open Session: 4:00 p.m. to 4:30 p.m.; Closed Session: 4:30 p.m. to 5:30 p.m.

May 19: Full Governing Board and Committee Meetings

Full Governing Board: Open Session: 8:30 a.m. to 10:15 a.m.; Closed Session: 1:00 p.m. to 2:15 p.m.; Open Session 2:30 p.m. to 4:45 p.m.

Committee Meetings:

Assessment Development Committee (ADC): Open Session: 10:30 a.m. to 11:45 a.m.; Closed Session: 11:45 a.m. to 12:45 p.m.

Committee on Standards, Design and Methodology (COSDAM): Open Session: 10:30 a.m. to 12:45 p.m.

Reporting and Dissemination (R&D): Open Session 10:30 a.m. to 12:00 p.m.; Closed Session 12:05 p.m. to 12:45 p.m.

May 20: Full Governing Board and Committee Meetings

Nominations Committee: Closed Session: 7:30 a.m. to 8:15 a.m.

Full Governing Board: Open Session: 8:30 a.m. to 11:45 a.m.

On Thursday, May 18, 2017, ADC will meet in closed session from 12:30 p.m. to 3:30 p.m. to review secure cognitive items and digital-based tasks for the grade 12 NAEP Mathematics assessment, the grade 12 NAEP Reading assessment, and the NAEP Science at grades 4, 8, and 12. The ADC will also review items and secure data for survey questionnaire items to be administered with NAEP assessments for Science, U.S. History, Civics, and Geography. This meeting must be conducted in closed session because the test items and data are secure and have not been released to the public. Public disclosure of the secure test items would significantly impede implementation of the NAEP assessment program if conducted in open session. Such matters are protected by exemption 9(B) of § 552b(c) of Title 5 of the United States Code.

On Thursday, May 18, 2017, the Executive Committee will convene in open session from 4:00 p.m. to 4:30 p.m., and in closed session from 4:30 p.m. to 5:30 p.m. During the closed session, the Executive Committee will receive and discuss information related to the federal budget process, independent cost estimates and implications for implementing NAEP's Assessment Schedule through 2024, and the Governing Board's planned procurements to implement its Strategic Vision. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On Friday, May 19, 2017, the Governing Board will meet in open session from 8:30 a.m. to 10:15 a.m. The Governing Board will review and approve the May 18-20, 2017 Board meeting agenda and meeting minutes from the March 2017 Quarterly Board Meeting. Thereafter, a panel of Minneapolis District Leaders will lead a session on Social Emotional Learning and the Relationship to Traditional Academic Variables. The Governing Board will recess for standing committee meetings which will take place from 10:30 a.m. to 12:45 p.m.

On May 19, 2017, COSDAM will meet in open session from 10:30 a.m. to 12:45 p.m. ADC will meet in open session from 10:30 a.m. to 11:45 a.m. and thereafter, in closed session from 11:45 a.m. to 12:45 p.m. During the closed session, the committee will continue reviewing items from the Thursday, May 19 session, which includes secure items, tasks, and data addressing NAEP assessments in Mathematics, Reading, Science, U.S. History, Civics, and Geography. This meeting must be conducted in closed session because the test items and data are secure and have not been released to the public. Public disclosure of the secure test items would significantly impede implementation of the NAEP assessment program if conducted in open session. Such matters are protected by exemption 9(B) of § 552b(c) of Title 5 of the United States Code.

On May 19, 2017, R&D will meet in open session from 10:30 a.m. to 12:00 p.m. and thereafter in closed session from 12:05 p.m. to 12:45 p.m. During the closed session, the Committee will review data collected from core contextual variables included on NAEP. This session will feature unreleased results from pilot studies that are used to decide which variables to include in future administrations of NAEP. This meeting must be conducted in closed session because the pilot study results are secure and have not been released to the public. Public disclosure of the secure test items would significantly impede implementation of the NAEP assessment program if conducted in open session. Such matters are protected by exemption 9(B) of § 552b(c) of Title 5 of the United States Code. Following the closed session, R&D will meet in open session from 11:00 a.m. to 12:45 p.m.

On May 19, 2017, the Governing Board will meet in closed session from 1:00 p.m. to 2:15 p.m. to receive a briefing on the embargoed Mapping State Proficiency Standards onto the 2015 NAEP Reading and Mathematics Scales Report. This meeting is being conducted in closed session because the report has not been released to the public. Public disclosure of the secure data would significantly impede implementation of the NAEP assessment program if conducted in open session. Such matters are protected by exemption 9(B) of § 552b of Title 5 of the United States Code.

Thereafter, the Governing Board will take a fifteen-minute break and reconvene in open session from 2:30 p.m. to 3:00 p.m. The Executive Director of the Governing Board, William Bushaw, will provide his report, followed by an update on National Center for Education Statistics (NCES) work by Peggy Carr, Acting Commissioner of NCES. From 3:00 p.m. to 4:45 p.m. the Governing Board will meet in breakout sessions to discuss the Strategic Vision Goal # 9 on Policy Approaches to Revise NAEP Assessment Subjects and the NAEP Schedule.

The May 19, 2017 meeting will adjourn at 4:45 p.m.

On May 20, 2017, the Nominations Committee will meet in closed session from 7:30 a.m. to 8:15 a.m. The committee will discuss the 2017 and 2018 nominations. The Nominations Committee's discussions pertain solely to internal personnel rules and practices of an agency and information of a personal nature where disclosure would constitute a clearly unwarranted invasion of personal privacy. As such, the discussions are protected by exemptions 2 and 6 of § 552b(c) of Title 5 of the United States Code.

The Governing Board will meet in open session on May 20, 2017 from 8:30 a.m. to 10:15 a.m. to receive summaries of the prior day's discussion on Strategic Vision Goal # 9 followed by a discussion on Strategic Vision Goal #10 on New Approaches to Measuring Complex Skills Required for Postsecondary Education and Career.

The Governing Board will then take a fifteen minute break and reconvene in open session from 10:30 a.m. to 11:00 a.m. to receive an update on committee reports. From 11:00 a.m. to 11:45 a.m. the Governing Board will discuss Strategic Vision #7, Long-Term Options; this session will be led by Board member Joe Wilhoft, COSDAM Vice- Chair.

The May 20, 2017 meeting is scheduled to adjourn at 11:45 a.m.

Access to Records of the Meeting: Pursuant to FACA requirements, the public may also inspect the meeting materials at www.nagb.gov beginning on Monday, May 1, 2017 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice. Although we will attempt to meet a request, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site. You may also access documents of the Department published in the Federal Register by using the article search feature at: www.federalregister.gov. Specifically, through the advanced search feature at this site, you can limit your search to documents published by the Department.

Authority: Pub. L. 107-279, Title III—National Assessment of Educational Progress § 301.

Dated: May 8, 2017.
William J. Bushaw,
Executive Director, National Assessment Governing Board (NAGB), U.S. Department of Education.

[FR Doc. 2017-09609 Filed 5-11-17; 8:45 am]

BILLING CODE 4000-01-P